SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Director for Reports Clearance to the addresses or fax numbers shown below.

(OMB), Office of Management and Budget, Attn: Desk Officer for SSA, Fax: 202-395-6974, E-mail address: OIRA_Submion@omb.eop.gov.

(SSA), Social Security Administration, DCBFM, Attn: Director, Center for Reports Clearance, 1333 Annex Building, 6401 Security Blvd., Baltimore, MD 21235, Fax: 410-965-0454, E-mail address: OPLM.RCO@ssa.gov.

I. The information collection below is pending at SSA. SSA will submit it to OMB within 60 days from the date of this notice. To be sure we consider your comments, we must receive them no later than December 28, 2009. Individuals can obtain copies of the collection instrument by calling the SSA Director for Reports Clearance at 410-965-0454 or by writing to the above e-mail address.

1. Certificate of Support—20 CFR 404.370, 404.750, 404.408a—0960-0001. A parent of a deceased, fully insured worker may be entitled to Title II benefits on the earnings record of the deceased worker under certain conditions. One of the conditions is the parent must have received at least one-half support from the deceased worker. The one-half support requirement also applies to a spouse applicant in determining whether Title II benefits are subject to Government Pension Offset (GPO). SSA uses the information from form SSA-760-F4 to determine whether the parent of a deceased worker or a spouse applicant meets the one-half support requirement. Respondents are parents of deceased workers or spouses who may be exempt from GPO.

Type of Request: Revision of an OMB-approved information collection.

Number of Respondents: 18,000.

Frequency of Response: 1.

Average Burden per Response: 15 minutes.

Estimated Annual Burden: 4,500 hours.

2. Physician's/Medical Officer's Statement of Patient's Capability to Manage Benefits—20 CFR 404.2015 and 416.615—0960-0024. SSA collects information on form SSA-787 to determine an individual's capability to handle his or her own benefits. This information assists SSA in determining the need for a representative payee. The respondents are the beneficiary's physicians or medical officers of the institution where the beneficiary resides.

Type of Request: Revision of an OMB-approved information collection.

Number of Respondents: 120,000.

Frequency of Response: 1.

Average Burden per Response: 10 minutes.

Estimated Annual Burden: 20,000 hours.

3. Reporting Changes that Affect Your Social Security Payment—20 CFR 404.301-305, .310-311, .330-.333, .335-.341, .350-.352, .370-.371, .401-.402, .408(a), .421-.425, .428-.430, .434-.437, .439-.441, .446-.447, .450-.455, .468—0960-0073. SSA collects the information on the SSA-1425 to determine continuing entitlement to Title II Social Security benefits and to determine the proper benefit amount. The respondents are Social Security beneficiaries receiving SSA retirement, disability, or survivor's auxiliary benefits who need to report an event that could affect payments.

Type of Request: Revision of an OMB-approved information collection.

Number of Respondents: 70,000.

Frequency of Response: 1.

Average Burden per Response: 5 minutes.

Estimated Annual Burden: 5,833 hours.

4. Child Relationship Statement—20 CFR 404.355 & 404.731—0960-0116. SSA collects information on the SSA-2519 to help determine a child's entitlement to Social Security benefits under section 216(h)(3) of the Social Security Act (deemed child provision). An insured individual's child may be deemed his or her child if: (1) The insured individual is shown by evidence satisfactory to SSA to be the child's parent and was living with or contributing to the child's support at certain specified times; or (2) the insured individual acknowledged the child in writing or the court decreed the individual to be the child's parent or ordered the individual to support the child. Respondents are persons with knowledge of the relationship between an individual and his/her alleged biological child who is filing for benefits.

Type of Request: Revision of an OMB-approved information collection.

Number of Respondents: 50,000.

Frequency of Response: 1.

Average Burden per Response: 15 minutes.

Estimated Annual Burden: 12,500 hours.

5. Pre-1957 Military Service—Federal Benefit Questionnaire—20 CFR 404.1301-404.1371—0960-0120. Sections 217(a) through (e) of the Social Security Act provide for crediting military service before 1957 to the wage earner's record. Form SSA-2512 collects specific information about other Federal, military, or civilian benefits the wage earner may receive when the applicant indicates both pre-1957 military service and the receipt of a Federal benefit. SSA uses the data in the claims adjudication process to grant gratuitous military wage credits when applicable, and to solicit sufficient information to make a determination of eligibility. Respondents are applicants for Social Security benefits on a record where the wage earner has pre-1957 military service.

Type of Request: Extension of an OMB-approved information collection.

Number of Respondents: 5,000.

Frequency of Response: 1.

Average Burden per Response: 10 minutes.

Estimated Annual Burden: 833 hours.

6. Application for Circuit Court Law—20 CFR 404.985 & 416.1458—0960-0581. SSA collects certain information in readjudication requests it receives from persons claiming the application of an acquiescence ruling (AR) would change a prior determination or decision. SSA uses this information to determine whether persons are entitled to readjudication of their claims in accordance with Social Security regulations. SSA reviews the information in the requests to determine whether the issue(s) stated in the AR pertains to the claimant's case. If readjudication is appropriate, SSA considers only those issue(s) the AR covers. Any new determination or decision is subject to administrative or judicial review as specified in regulations. Respondents are claimants for Social Security benefits and Supplemental Security Income (SSI) payments who request readjudication.

Type of Request: Extension of an OMB-approved information collection.

Number of Respondents: 10,000.

Frequency of Response: 1.

Average Burden per Response: 17 minutes.

Estimated Annual Burden: 2,833 hours.

II. SSA has submitted the information collections listed below to OMB for clearance. Your comments on the information collections would be most useful if OMB and SSA receive them within 30 days from the date of this publication. To be sure we consider your comments, we must receive them no later than November 25, 2009. You can obtain a copy of the OMB clearance packages by calling the SSA Director for Reports Clearance at 410-965-0454 or by writing to the above e-mail address.

1. State Supplementation Provisions: Agreement; Payments—20 CFR 416.2095-416.2098, 416.2099—0960-0240. Section 1618 of the Social Security Act contains pass-along provisions of the Social Security amendments. These provisions require states that supplement the Federal SSI payments to pass along Federal cost-of-living increases to individuals who are eligible for state supplemental payments. If a state fails to keep payments at the required level, it becomes ineligible for Medicaid reimbursement under Title XIX of the Social Security Act. SSA uses the information to determine a state's eligibility for Medicaid reimbursement. Respondents are state agencies administering supplemental programs.

Note: This is a correction notice. We are revising this notice to include the chart below that was not in the 60-day Federal Register Notice published on August 19, 2009, at 74 FR 41959.

Type of Request: Extension of an OMB-approved information collection.

Reporting method | Number of respondents | Frequency of response | Average burden per response (minutes) | Estimated annual burden (hours)
Total Expenditures | 7 | 4 | 60 | 28
Maintenance of Payment Levels | 23 | 1 | 60 | 23
Total | 30 |  |  | 51

2. Vocational Rehabilitation Provider Claim—20 CFR 404.2108(b), 404.2117(c)(1)&(2), 404.2101(b)&(c), 404.2121(a), 416.2208(b), 416.2217(c)(1)&(2), 416.2201(b)&(c), 416.2221(a)—0960-0310. SSA refers certain disability beneficiaries to State Vocational Rehabilitation (VR) agencies. The State VR agencies use the SSA-199 to make claims for reimbursement of the costs they incur when providing VR services for beneficiaries. SSA uses the information on the SSA-199 to determine whether or not, and how much, to pay the State VR agencies under SSA's VR program. Respondents are State VR agencies who offer vocational and employment services to Social Security and SSI recipients.

Type of Request: Revision of an OMB-approved information collection.

Form or regulation section No. (20 CFR) | Number of respondents | Frequency of response | Total responses | Average burden per response (minutes) | Estimated annual burden (hours)
a. SSA-199 (404.2108 & 416.2208) | 80 | 160 each/year | 12,800 | 23 | 4,907
b. (404.2117 & 416.2217) | 80 | 1 per year | 80 | 60 | 80
c. (404.2121 & 416.2221) | 80 | 2-3 per year | 200 | 100 | 333
Total | * 80 |  | 13,080 |  | 5,320
* Same respondents used for each section.

3. Internet Request for Replacement of Forms SSA-1099/SSA-1042S—20 CFR 401.45—0960-0583. Recipients use the SSA-1099 and SSA-1042S to determine if Social Security benefits are taxable and the amount they need to report to the Internal Revenue Service. An individual may use SSA's Internet request form to obtain a replacement SSA-1099 and SSA-1042S. SSA uses the information from the Internet request form to verify the identity of the requestor and to provide replacement copies of the forms. The Internet option eliminates the need for phone calls to the national 800 number or visits to a local field office. The respondents are Title II recipients who wish to request a replacement SSA-1099 or SSA-1042S via the Internet.

Note: This is a correction notice. SSA published this information collection as an extension on July 10, 2009, at 74 FR 33313. Since we are revising the Privacy Act Statement, this is now a revision of an OMB-approved information collection.

Type of Request: Extension of an OMB-approved information collection.

Number of Respondents: 136,455.

Frequency of Response: 1.

Average Burden per Response: 10 minutes.

Estimated Annual Burden: 22,743 hours.

4. Uniform Administrative Requirements for Grants and Agreements with Institutions of Higher Learning, Hospitals and Other Non-Profit Organizations—20 CFR 435—0960-0616. The information contained in 20 CFR 435 of the Code of Federal Regulations provides SSA's standards for administering grants and agreements it awards to institutions of higher learning, hospitals, and other non-profit and/or commercial organizations. The regulations discuss administrative guidelines and reporting, recordkeeping, and disclosure requirements for recipients of grants and agreements. SSA uses the information to monitor the progress and successful completion of funded projects. Respondents are recipients of grants and agreements with SSA.

Type of Request: Extension of an OMB-approved information collection.

Section No. (20 CFR) | Number of responses | Frequency of response | Average burden per response (hours) | Estimated annual burden (hours)
435.23 Rec-kp | 107 | Monthly (12) | 1 | 1,284
435.25 Rpt | 127 | Biannually (2) | 4 | 1,016
435.51 Rpt | 127 | Quarterly (4) | 12 | 6,096
435.53 Rec-kp | 127 | Annually (1) | 8 | 1,016
Total |  |  |  | 9,412

5. Certificate of Incapacity—5 CFR 890.302(d)—0960-0739. Rules governing the Federal Employee Health Benefits (FEHB) plan require that the physician verify disability of Federal employees' children ages 22 and over to retain health benefits under the employees' plans. The physician must verify the adult child has a disability that meets the following criteria: (1) Pre-dates the child's 22nd birthday; (2) is very serious; and (3) is expected to last at least one year. Physicians use Form SSA-604, the Certificate of Incapacity, to document and certify the disability of children ages 22 and over whose parents are SSA employees. SSA uses the information to determine adult children's (age 22 and above) eligibility for coverage under a parent's FEHB plan. The respondents are physicians of SSA employees' children ages 22 or over who are seeking to retain health benefits under their parents' FEHB coverage.

Note: This is a correction notice. SSA published this information collection as a new information collection on August 19, 2009, at 74 FR 41959. Since we are revising the Privacy Act Statement, this is now a revision of an OMB-approved information collection.

Type of Request: Revision of an OMB approved information collection.

Number of Respondents: 50.

Frequency of Response: 1.

Average Burden per Response: 45 minutes.

Estimated Annual Burden: 38 hours.

6. Representative Payment Policies and Administrative Procedures for Imposing Penalties for False or Misleading Statements or Withholding of Information—0960-0740. This information collection request (ICR) comprises several regulation sections that provide additional safeguards for Social Security beneficiaries whose representative payees receive their payments. The respondents are representative payees who receive and use benefits on behalf of Social Security beneficiaries.

Type of Collection: Extension of an OMB-approved information collection.

Regulation section (20 CFR) | Number of respondents | Completion time (hours) | Burden (hours)
404.2035(d) | 550,000 | .083 | 45,650
404.2035(f) | 5,500 | .083 | 457
416.635(d) | 300,000 | .083 | 24,900
416.635(f) | 3,000 | .083 | 249
Total | 858,500 |  | 71,256

7. Ticket to Work Program Evaluation Survey (National Beneficiary Survey)—0960-0666. The 1999 Ticket to Work and Work Incentives Improvement Act, Public Law 106-170, established the Ticket to Work program (TTW) to create additional access to services for SSA beneficiaries through a new system of public and private Employment Network (EN) providers. Along with establishing the TTW program, the legislation mandated an evaluation of the program.

In February 2003, SSA began a multi-phase evaluation of this program. Although we had originally planned to complete the final data collection wave by 2009, significant changes we made to the TTW program in 2008 (such as changes to the way State VR agencies can provide services) compelled us to extend the final evaluation to 2010.

In this ICR, we are seeking clearance for Round 4 of the National Beneficiary Survey and two associated experiments (all three activities will use the same data). The respondents are Social Security beneficiaries and TTW enrollees. As with the previous three phases of this project, a contractor will conduct this study for SSA.

Type of Collection: Revision of an OMB-approved information collection.

Instrument | Annual number of respondents | Number of responses per respondent | Average burden hours per response | Estimated annual burden hours
National Beneficiary Sample | 2,400 | 1 | .750 | 1,800
Ticket Participant Sample | 3,000 | 1 | .917 | 2,751
Grand Total—Burden for NBS:
Grand Total for All | 5,400 |  |  | 4,551

8. Continuation of SSI Benefits for the Temporarily Institutionalized—Certification of Period and Need to Maintain Home—20 CFR 416.212(b)(1)—0960-0516. When SSI recipients (1) enter a public institution or (2) enter a private medical treatment facility with Medicaid paying more than 50 percent of expenses, their SSI payments are reduced to a nominal sum. However, if this institutionalization is temporary (defined as a maximum of 3 months), SSA may waive the reduction of benefits.

Before SSA can waive the benefits reduction, the agency must obtain the following documentation: (1) A physician's certification the beneficiary will be institutionalized for a maximum of 3 months; and (2) certification from the beneficiary, beneficiary's family, or beneficiary's friend confirming the need for SSI payments to maintain the living arrangements to which the beneficiary will return post-institutionalization. The respondents are doctors of SSI recipients and the recipients or their family/friends.

Type of Request: Extension of an OMB-approved information collection.

Number of Respondents: 60,000.

Frequency of Response: 1.

Average Burden per Response: 5 minutes.

Estimated Annual Burden: 5,000 hours.

Dated: October 20, 2009.
Elizabeth A. Davidson,
Director, Center for Reports Clearance, Social Security Administration.

[FR Doc. E9-25663 Filed 10-23-09; 8:45 am]

BILLING CODE 4191-02-P